DEPARTMENT OF COMMERCE

Submission for OMB Review; Comment Request

The Department of Commerce (DOC) will submit to the Office of Management and Budget (OMB) for clearance the following proposal for collection of information under provisions of the Paperwork Reduction Act (44 U.S.C. Chapter 35).

Agency: Bureau of Industry and Security (BIS).

Title: Procedure for Voluntary Self-Disclosure of Violations of the Export Administration Regulations.

Agency Form Number: None.

OMB Approval Number: 0694-0058.

Type of Request: Regular submission.

Burden Hours: 1,930.

Average Time Per Response: 10.

Number of Respondents: 193.

Needs and Uses: BIS codified its voluntary self-disclosure policy to increase public awareness of this policy and to provide the public with a better understanding of BIS's likely response to a given disclosure. Voluntary self-disclosures allow BIS to conduct investigations of the disclosed incidents faster than would be the case if BIS had to detect the violations without such disclosures.

Affected Public: Individuals or households, and business or other for-profit organizations.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: August 22, 2007.
Gwellnar Banks,
Management Analyst, Office of the Chief Information Officer.

[FR Doc. E7-16975 Filed 8-27-07; 8:45 am]

BILLING CODE 3510-DT-P